DEPARTMENT OF EDUCATION

34 CFR Parts 674, 682, and 685

Federal Student Aid Programs (Federal Perkins Loan Program, Federal Direct Loan Program, Federal Family Education Loan Program)

ACTION: Notice of waivers and modifications of statutory and regulatory provisions.

SUMMARY: The Secretary of Education announces waivers and modifications of statutory and regulatory provisions that are appropriate to assist students and borrowers under the Federal Perkins Loan Program, Federal Direct Loan Program, and Federal Family Education Loan Program who are members of the reserve components of the Armed Forces under Title 10 of the United States Code called or ordered to active duty for a period of more than 30 days, or who are regular active duty members of the Armed Forces reassigned to a different duty station for more than 30 days as a result of a military mobilization. The Secretary is issuing these waivers and modifications under the authority of Section 2(a) of the Higher Education Relief Opportunities for Students Act of 2001, Pub. L. 107-122. Section 2(b) of Pub. L. 107-122 requires the Secretary to publish a notice in the Federal Register specifying the waivers or modifications of statutory or regulatory provisions applicable to the student financial aid programs under title IV of the Higher Education Act of 1965, as amended (HEA), that the Secretary believes are appropriate to assist affected individuals so that they are not placed in a worse position financially, in relation to their loans, by their service. Section 2(b)(1) of Pub. L. 107-122 further provides that section 437 of the General Education Provisions Act (20 U.S.C. 1232) and Section 553 of the Administrative Procedures Act (5 U.S.C. 553) do not apply to the contents of this notice.

Section 2(c) of Pub. L. 107-122 requires the Secretary to provide an impact report to the Committee on Education and the Workforce of the House of Representatives and the Committee on Health, Education, Labor and Pensions of the Senate not later than 15 months after first exercising any authority to issue a waiver or modification under section 2(a) of Pub. L. 107-122. The report will describe the impact of any waivers or modifications issued pursuant to section 2(a) of Pub. L. 107-122 on affected individuals and the programs under title IV of the HEA, and the basis for such determination, and will include the Secretary's recommendations for changes to the statutory or regulatory provisions that were the subject of the waivers or modifications.

EFFECTIVE DATE: May 14, 2003.

FOR FURTHER INFORMATION CONTACT: Mr. George Harris, Senior Program Specialist, Office of Postsecondary Education, U.S. Department of Education, 1990 K Street, NW, (8th Floor) Washington, DC 20006. Telephone: (202) 502-7521.

If you use a telecommunications device for the deaf (TDD), you may call the Federal Information Relay Service (FIRS) at 1-800-877-8339.

Individuals with disabilities may obtain this document in an alternative format (e.g., Braille, large print, audiotape, or computer diskette) on request to the program contact persons listed under FOR FURTHER INFORMATION CONTACT.

SUPPLEMENTARY INFORMATION: The Secretary is waiving or modifying the following provisions of the HEA and regulations:

Federal Perkins Loan Program

Under 34 CFR 674.33(d)(2) and section 464(e) of the HEA, there is a 3-year cumulative limit on the length of forbearances that a Perkins loan borrower can receive. To assist Perkins Loan borrowers described in the SUMMARY section of this notice, the Secretary is waiving these statutory and regulatory requirements so that any forbearance based on a borrower's military service is excluded from this 3-year cumulative limit.

Federal Family Education Loan (FFEL) Program, Federal Direct Loan Program, and Federal Perkins Loan Program

Depending on the loan program, borrowers may qualify for loan cancellation if they are employed full-time in specified occupations, such as teachers, childcare providers, or law enforcement officers, pursuant to sections 428J(b)(1), 428K(d)(1), 460(b)(1), and 465(a)(2)(A)-(I) and (a)(3) of the HEA, 34 CFR 674.53(d), 674.55(a)(2), 674.55(b)(5), 674.55(c)(2), 674.56(d)(1), 674.57(b)(1), 674.58(b), 674.60(b), 34 CFR 682.215(d)(1), and 34 CFR 685.217(d)(1). Generally, borrowers must perform uninterrupted, otherwise qualifying service for a specified length of time (for example, one year) or for consecutive periods of time, such as 5 consecutive years, to be eligible for loan cancellation. For all borrowers described in the SUMMARY section of this notice, the Secretary is waiving the requirements in the various loan cancellation provisions that such periods of service be uninterrupted and/or consecutive. Loan holders should not consider the time that these borrowers are on active duty as an interruption in the required service for the borrower to receive a loan cancellation.

Electronic Access To This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

You may also view this document in PDF at the following site: ifap.ed.gov.

Note: The official version of this document is the document published in the Federal Register. Free Internet access to the official edition of the Federal Register and the Code of Federal Regulations is available on GPO Access at: http://www.access.gpo.gov/nara/index.html.

(Catalog of Federal Domestic Assistance Numbers: 84.032 Federal Family Education Loan Program; 84.038 Federal Perkins Loan Program; and 84.268 William D. Ford Federal Direct Loan Program)

Program Authority: 20 U.S.C. 1071, 1087a, 1087aa.

Dated: May 8, 2003.
Sally L. Stroup,
Assistant Secretary, Office of Postsecondary Education.

[FR Doc. 03-11982 Filed 5-13-03; 8:45 am]

BILLING CODE 4000-01-P